DEPARTMENT OF AGRICULTURE

Rural Housing Service

[Docket No. RHS-21-CF-0020]

Community Facilities Technical Assistance and Training Grant Program for Fiscal Year 2022

AGENCY: Rural Housing Service, USDA.

ACTION: Notice of Solicitation of Applications (NOSA).

SUMMARY: The Rural Housing Service (Agency), a Rural Development agency of the United States Department of Agriculture (USDA), announces that it is accepting applications under the Community Facilities Technical Assistance and Training (TAT) Grant program for fiscal year (FY) 2022. This NOSA is being issued prior to passage of a final appropriations act for FY 2022 to allow potential applicants time to submit applications for financial assistance under the program and to give the Agency time to process applications. Once the FY 2022 funding amount is determined, the Agency will publish it on its website at https://www.rd.usda.gov/newsroom/notices-solicitation-applications-nosas.

DATES: Completed applications must be submitted using one of the following methods:

• Paper submissions: The Agency must receive applications in paper, postmarked, and mailed, shipped, or sent overnight by 4:00 p.m. local time on May 26, 2022. Applicants intending to mail applications must provide sufficient time to permit delivery on or before the closing deadline date and time. Acceptance by the United States Postal Service or private mailer does not constitute delivery. Facsimile (FAX), electronic mail, and postage due applications will not be accepted. The application dates and times are firm. The Agency will not consider any application received after the deadline.

• Electronic submissions: Electronic applications must be submitted via https://www.grants.gov by 11:59 p.m. Eastern Daylight Savings Time on May 23, 2022.

Prior to official submission of applications, applicants may request application guidance from the Agency, as long as such requests are made prior to May 16, 2022. Technical assistance is not meant to be an analysis or assessment of the quality of the materials submitted, a substitute for agency review of completed applications, nor a determination of eligibility, if such determination requires in-depth analysis.

The Agency will not solicit or consider scoring nor eligibility information that is submitted after the application deadline. The Agency reserves the right to contact applicants to seek clarification information on materials contained in the submitted application.

ADDRESSES: This notice and application materials may be accessed at https://www.grants.gov. This Notice may also be viewed at: https://www.rd.usda.gov/newsroom/notices-solicitation-applications-nosas.

Applicants can submit an electronic application by following the instructions for the TAT funding announcement on https://www.grants.gov. Applications may be submitted by the following methods:

Applications are to be submitted to the USDA Rural Development State Office for the State in which the applicant is located. The address for the headquarters of each USDA Rural Development State Office can be accessed at https://www.rd.usda.gov/files/CF_State_Office_Contacts.pdf. The Applicant should contact the USDA Rural Development State Office to see if applications may be submitted to Field Offices within the state.

For applicants located in the District of Columbia, applications will be submitted to the National Office in care of Shirley Stevenson, 1400 Independence Ave. SW, STOP 0787, Washington, DC 20250.

Electronic applications will be submitted via https://www.grants.gov.

FOR FURTHER INFORMATION CONTACT: The Rural Development office for the state in which the applicant is located. A list of Rural Development State Office contacts is provided at the following link: https://www.rd.usda.gov/files/CF_State_Office_Contacts.pdf. Applicants located in Washington, DC can contact Shirley Stevenson at (202) 205-9685 or via email at Shirley.Stevenson@usda.gov.

SUPPLEMENTARY INFORMATION:

Authority

This solicitation is authorized pursuant to Section 306(a)(26) of the Consolidated Farm and Rural Development Act (7 U.S.C. 1926(a)(26)), 7 CFR part 3570, subpart F, and 7 CFR 3570.267.

Rural Development: Key Priorities

The Agency encourages applicants to consider projects that will advance the following key priorities:

• Assisting Rural communities recover economically from the impacts of the COVID-19 pandemic, particularly disadvantaged communities;

• Ensuring all rural residents have equitable access to RD programs and benefits from RD funded projects; and

• Reducing climate pollution and increasing resilience to the impacts of climate change through economic support to rural communities.

Additional information regarding RD's funding priorities is available at the following website: https://www.rd.usda.gov/priority-points. Expenses incurred in developing grant application packages will be at the applicant's sole risk.

Background

USDA's Rural Development Agencies, comprised of the Rural Business-Cooperative Service (RB-CS), Rural Housing Service (RHS), and the Rural Utilities Service (RUS), are leading the way in helping rural America improve the quality of life and increase the economic opportunities for rural people. RHS offers a variety of programs to build or improve housing and essential community facilities in rural areas. The Agency also offers loans, grants, and loan guarantees for single- and multi-family housing, child-care centers, fire and police stations, hospitals, libraries, nursing homes, schools, first responder vehicles and equipment, housing for farm laborers and much more. The Agency also provides technical assistance loans and grants in partnership with non-profit organizations, Indian tribes, state and Federal government agencies, and local communities.

Program Description

The RHS provides TAT grants to eligible public bodies and private, nonprofit organizations (such as states, counties, cities, townships, incorporated towns, villages, boroughs, authorities, districts, and Tribes located on Federal or state reservations) to provide technical assistance and training in support of essential community facilities programs. In turn, this technical assistance and training helps grantees identify and plan for community facility needs in their area. Once these needs are pinpointed, the grantee can find additional public and private financial resources.

Paperwork Reduction Act

The paperwork burden has been approved by the Office of Management and Budget (OMB) under OMB Control Number 0575-0198.

Overview

Federal Agency: Rural Housing Service (RHS).

Funding Opportunity Title: Community Facilities Technical Assistance and Training Grant.

Announcement Type: Notice of Solicitation of Applications (NOSA).

Assistance Listing (formerly CFDA): 10.766.

Funding Opportunity Number: USDA-RD-CFTAT-202.

Due Date for Applications: Applications must be submitted using one of the following methods:

Paper submissions: The deadline for receipt of a paper application is 4 p.m. local time, May 26, 2022.

Electronic submissions: Electronic applications will be accepted via Grants.gov. The deadline for receipt of an electronic application via https://Grants.gov is 11:59 p.m. Eastern Daylight Savings Time on May 23, 2022. The application dates and times are firm. The Agency will not consider any application received after the deadline. Applicants intending to mail applications must provide sufficient time to permit delivery on or before the closing deadline date and time. Acceptance by the United States Postal Service or private mailer does not constitute delivery. Facsimile (FAX), electronic mail, and postage due applications will not be accepted. Prior to official submission of applications, applicants may request technical assistance or other application guidance from the Agency, as long as such requests are made prior to May 17, 2022. Technical assistance is not meant to be an analysis or assessment of the quality of the materials submitted, a substitute for agency review of completed applications, nor a determination of eligibility, if such determination requires in-depth analysis. The Agency will not solicit or consider scoring or eligibility information that is submitted after the application deadline. The Agency reserves the right to contact applicants to seek clarification information on materials contained in the submitted application.

Items in Supplementary Information

I. Funding Opportunity Description

II. Award Information

III. Eligibility Information

IV. Application and Submission Information

V. Unique Entity Identifier (UEI) and System for Awards Management (SAM)

VI. Application Processing

VII. Scoring Criteria

VIII. Federal Award Administration Information

IX. Non-Discrimination Statement

I. Funding Opportunity Description

The Community Facilities Technical Assistance and Training Grant program is authorized by Section 306(a)(26) of the Consolidated Farm and Rural Development Act (7 U.S.C. 1926(a)(26)).

Program regulations can be found at 7 CFR part 3570, subpart F, referenced in this Notice. The purpose of this Notice is to seek applications from entities that will provide technical assistance and/or training with respect to essential community facilities programs. The purpose of this program is to assist entities in rural areas in accessing funding under RHS's Community Facilities Programs in accordance with 7 CFR part 3570, subpart F. Funding priority will be made to private, nonprofit or public organizations that have experience in providing technical assistance and training to rural entities.

II. Award Information

Type of Awards: Grants will be made to eligible entities who will then provide technical assistance and training to eligible ultimate recipients.

Fiscal Year Funds: FY 2022 TAT Grant funds.

Available Funds: This NOSA is being issued prior to passage of a final appropriations act for FY 2022. Once the FY 22 funding amount is determined, the Agency will publish it on its website at https://www.rd.usda.gov/newsroom/notices-solicitation-applications-nosas. Up to ten percent of the available funds may be awarded to the highest scoring Ultimate Recipient(s) as long as they score a minimum score of at least 70. The Agency reserves the right to reduce funding amounts based on the Agency's determination of available funding or other Agency funding priorities.

Funding Award Amounts: Grant awards for Technical Assistance providers assisting Ultimate Recipients within one state may not exceed $150,000. Grant awards made to Ultimate Recipients will not exceed $50,000.

Award Dates: Awards will be funded on or before September 15, 2022.

III. Eligibility Information

Both the applicant and the use of funds must meet eligibility requirements. The applicant eligibility requirements can be found at 7 CFR 3570.262. Eligible project purposes can be found at 7 CFR 3570.263. Ineligible project purposes can be found at 7 CFR 3570.264. Restrictions substantially similar to Sections 744 and 745 outlined in Division C, Title VII, “General Provisions—Government-Wide” of the Consolidated Appropriations Act, 2021 (Pub. L. 116-260) will apply unless noted on the Rural Development website (https://www.rd.usda.gov/programs-services/community-facilities-technical-assistance-and-training-grant). Any corporation that has been convicted of a felony criminal violation under any Federal law within the past 24 months, or that has any unpaid Federal tax liability that has been assessed, for which all judicial and administrative remedies have been exhausted or have lapsed, and that is not being paid in a timely manner pursuant to an agreement with the authority responsible for collecting the tax liability, is not eligible for financial assistance provided with full-year appropriated funds, unless a Federal agency has considered suspension or debarment of the corporation and has made a determination that this further action is not necessary to protect the interests of the Government.

IV. Application and Submission Information

The requirements for submitting an application can be found at 7 CFR 3570.267. All applicants can access application materials at https://www.grants.gov. Applications must be received by the Agency by the due date listed in the DATES section of this Notice. Applications received after that due date will not be considered for funding. Paper copies of the applications will be submitted to the State Office in which the applicant is headquartered. Electronic submissions should be submitted at https://www.grants.gov. A listing of the Rural Development State Offices may be found at https://www.rd.usda.gov/files/CF_State_Office_Contacts.pdf. Applicants whose headquarters are in the District of Columbia will submit their application to the National Office in care of Shirley Stevenson, 1400 Independence Ave. SW, STOP 0787, Washington, DC 20250. Both paper and electronic applications must be received by the Agency by the deadlines stated in the DATES section of this Notice. The use of a courier and package tracking for paper applications is strongly encouraged. An applicant can only submit one application for funding. Application information for electronic submissions may be found at https://www.grants.gov. Applications will not be accepted via FAX or email.

V. Unique Entity Identifier (UEI) and System for Awards Management (SAM)

Grant applicants must obtain a Unique Entity Identifier (UEI) and register in the System for Award Management (SAM) prior to submitting an application pursuant to 2 CFR 25.200(b). Instructions for obtaining the UEI are available at https://sam.gov/content/entity-registration.

In addition, an entity applicant must maintain registration in SAM at all times during which it has an active Federal award or an application or plan under consideration by the Agency. The applicant must ensure that the information in the database is current, accurate, and complete. Applicants must ensure they complete the Financial Assistance General Certifications and Representations in SAM. Similarly, all recipients of Federal financial assistance are required to report information about first-tier subawards and executive compensation in accordance with 2 CFR part 170. So long as an entity applicant does not have an exception under 2 CFR 170.110(b), the applicant must have the necessary processes and systems in place to comply with the reporting requirements should the applicant receive funding. See 2 CFR 170.200(b).

An applicant, unless excepted under 2 CFR 25.110(b), (c), or (d), is required to:

(a) Be registered in SAM before submitting its application;

(b) Provide a valid UEI in its application; and

(c) Continue to maintain an active SAM registration with current information at all times during which it has an active Federal award or an application or plan under consideration by a Federal awarding agency.

The Federal awarding agency may not make a federal award to an applicant until the applicant has complied with all applicable UEI and SAM requirements. If an applicant has not fully complied with these requirements by the time the Federal awarding agency is ready to make a Federal award, the Federal awarding agency may determine that the applicant is not qualified to receive a Federal award and use that determination as a basis for making a Federal award to another applicant.

As required by the Office of Management and Budget (OMB), all grant applications must provide a UEI number when applying for Federal grants. Organizations can obtain a UEI at https://sam.gov/content/entity-registration.

VI. Application Processing

(a) Applications will be processed in accordance with this NOSA and 7 CFR 3570.272:

(1) Applications that are not selected for funding due to low rating will be notified by the Agency. Applications that cannot be funded in the fiscal year that the application was received will not be retained for consideration in the following fiscal year.

(2) Applicants selected for funding will need to accept the conditions set forth in the Letter of Conditions, meet all such conditions, and complete a grant agreement which outlines the terms and conditions of the grant award before grant funds will be disbursed.

VII. Scoring Criteria

Applications will be scored in accordance with this NOSA and 7 CFR 3570.273. Those applications receiving the highest points using the scoring factors will be selected for funding. Up to 10% of the available funds may be awarded to the highest scoring Ultimate Recipient(s) as long as they score a minimum score of at least 70. In the case of a tie, the first tiebreaker will go to the applicant who scores the highest on matching funds. If two or more applications are still tied after using this tiebreaker, the next tiebreaker will go to the applicant who scores the highest in the multi-jurisdictional category. Once the successful applicants are announced, the State Office will be responsible for obligating the grant funds, executing all obligation documents, and the grant agreement, as provided by the agency.

The Agency will score each application using the following scoring factors:

(a) Experience: Applicant Experience at developing and implementing successful technical assistance and/or training programs:

(1) More than 10 years—40 points.

(2) More than 5 years to 10 years—25 points.

(3) 3 to 5 years—10 points.

(b) No prior grants received:

(1) Applicant has never received a TAT Grant—5 points.

(c) Population: The average population of proposed area(s) to be served:

(1) 2,500 or less—15 points.

(2) 2,501 to 5,000—10 points.

(3) 5,001 to 10,000—5 points.

(d) MHI: The average median household income (MHI) of the proposed area to be served is below the higher of the poverty line or:

(1) 60 percent of the State's MHI—15 points.

(2) 70 percent of the State MHI—10 points.

(3) 90 percent of the State's MHI—5 points.

(e) Multi-jurisdictional: The proposed technical assistance or training project is part of a Multi-jurisdictional project comprised of:

(1) More than 10 jurisdictions—15 points.

(2) More than 5 to 10 jurisdictions—10 points.

(3) 3 to 5 jurisdictions—5 points.

(f) Soundness of approach: Up to 10 points.

(1) The problem/issue being addressed in the Needs Assessment is clearly defined, supported by data, and addresses the needs;

(2) Goals & objectives are clearly defined, tied to the need as defined in the work plan, and are measurable;

(3) Work plan clearly articulates a well thought out approach to accomplishing objectives and clearly identifies who will be served by the project; and

(4) The proposed activities are needed in order for a complete Community Facilities loan and/or grant application.

(g) Matching funds:

(1) There is evidence of the commitment of other cash funds of 20% of the total project costs—10 points.

(2) There is evidence of the commitment of other cash funds of 10% of the total project costs—5 points.

(h) State Director discretionary points. The State Director may award up to 10 discretionary points for the highest priority project in each state, up to 7 points for the second highest priority project in each state, and up to 5 points for the third highest priority project that address the following key priorities:

(1) COVID-19 Impacts. Priority points may be awarded if the project is located in or serving one of the top 10% of counties or county equivalents based upon county risk score in the United States. Information on whether your project qualifies for priority points can be found at the following website: https://www.rd.usda.gov/priority-points.

(2) Equity. Priority points may be awarded if the project is located in or serving a community with score 0.75 or above on the CDC Social Vulnerability Index. Information on whether your project qualifies for priority points can be found at the following website: https://www.rd.usda.gov/priority-points.

(3) Climate Impacts. Priority points may be awarded if the project is located in or serving coal, oil and gas, and power plant communities whose economic well-being ranks in the most distressed tier of the Distressed Communities Index. Information on whether your project qualifies for priority points can be found at the following website: https://www.rd.usda.gov/priority-points.

The State Director will place written documentation in the project file each time the State Director assigns these points.

(i) Administrator discretionary points. The Administrator may award up to 20 discretionary points for projects to address geographic distribution of funds, emergency conditions caused by economic problems, natural disasters and other initiatives identified by the Secretary such as applicants proposing to advance any or all of the Agency's three key funding priorities, provided that all other requirements set forth in this notice are otherwise met. The key priorities are:

(1) COVID-19 Impacts. Priority points may be awarded if the project is located in or serving one of the top 10% of counties or county equivalents based upon county risk score in the United States. Information on whether your project qualifies for priority points can be found at the following website: https://www.rd.usda.gov/priority-points.

(2) Equity. Priority points may be awarded if the project is located in or serving a community with score 0.75 or above on the CDC Social Vulnerability Index. Information on whether your project qualifies for priority points can be found at the following website: https://www.rd.usda.gov/priority-points.

(3) Climate Impacts. Priority points may be awarded if the project is located in or serving coal, oil and gas, and power plant communities whose economic well-being ranks in the most distressed tier of the Distressed Communities Index. Information on whether your project qualifies for priority points can be found at the following website: https://www.rd.usda.gov/priority-points.

VIII. Federal Award Administration Information

1. Federal Award Notice. Within the limit of funds available for such purpose, the awarding official of the Agency shall make grants in ranked order to eligible applicants under the procedures set forth in this Notice and the grant regulation 7 CFR part 3570, subpart F. Successful applicants will receive a letter in the mail containing instructions on requirements necessary to proceed with execution and performance of the award. This letter is not an authorization to begin performance. In addition, selected applicants will be requested to verify that components of the application have not changed at the time of selection and on the award date, if requested by the Agency.

The award is not approved until all information has been verified, and the awarding official of the Agency has signed Form RD 1940-1, “Request for Obligation of Funds” and the grant agreement.

Unsuccessful and ineligible applicants will receive written notification of their review and appeal rights.

2. Administrative and National Policy Requirements. Grantees will be required to do the following:

(a) Execute a Grant Agreement.

(b) Execute Form RD 1940-1.

(c) Use Form SF 270, “Request for Advance or Reimbursement” to request reimbursement. Provide receipts for expenditures, timesheets, and any other documentation to support the request for reimbursement.

(d) Provide financial status and project performance reports as set forth at 7 CFR 3570.276.

(e) Maintain a financial management system that is acceptable to the Agency.

(f) Ensure that records are maintained to document all activities and expenditures utilizing CF TAT grant funds and any matching funds, if applicable. Receipts for expenditures will be included in this documentation.

(g) Provide audits or financial information as set forth in 7 CFR 3570.277.

(h) Collect and maintain data provided by ultimate recipients on race, sex, and national origin and ensure Ultimate Recipients collect and maintain this data. Race and ethnicity data will be collected in accordance with OMB Federal Register notice, “Revisions to the Standards for the Classification of Federal Data on Race and Ethnicity,” (62 FR 58782), October 30, 1997. Sex data will be collected in accordance with Title IX of the Education Amendments of 1972. These items should not be submitted with the application but should be available upon request by the Agency.

(i) Provide a final performance report as set forth at 7 CFR 3570.276(a)(7).

(j) Identify and report any association or relationship with Rural Development employees.

(k) The applicant and the ultimate recipient must comply with Title VI of the Civil Rights Act of 1964, Title IX of the Education Amendments of 1972, Americans with Disabilities Act (ADA), Section 504 of the Rehabilitation Act of 1973, Age Discrimination Act of 1975, Executive Order 12250, Executive Order 13166 Limited English Proficiency (LEP), and 7 CFR part 1901, subpart E. The grantee must comply with policies, guidance, and requirements as described in the following applicable Code of Federal Regulations and any successor regulations:

(1) 2 CFR parts 200 and 400 (Uniform Administrative Requirements, Cost Principles, and Audit Requirements for Federal Awards).

(2) 2 CFR parts 417 and 180 (Government-wide Debarment and Suspension (Nonprocurement)).

3. Reporting

Reporting requirements for this grant as set forth at 7 CFR 3570.276.

IX. Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident. Program information may be made available in languages other than English. Persons with disabilities who require alternative means of communication to obtain program information (e.g., Braille, large print, audiotape, American Sign Language) should contact the responsible Mission Area, agency, or staff office, the USDA TARGET Center at (202) 720-2600 (voice and TTY), or the Federal Relay Service at (800) 877-8339.

To file a program discrimination complaint, a complainant should complete a Form AD-3027, USDA Program Discrimination Complaint Form, which can be obtained online at https://www.usda.gov/oascr/how-to-file-a-program-discrimination-complaint, https://www.ocio.usda.gov/document/ad-3027, or from any USDA office by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin Altoro,
Administrator, Rural Housing Service.

[FR Doc. 2022-05080 Filed 3-11-22; 8:45 am]

BILLING CODE 3410-XV-P